DEPARTMENT OF HEALTH AND HUMAN SERVICES

National Institutes of Health

Center for Scientific Review; Amended Notice of Meeting

Notice is hereby given of a change in the meeting of the Center for Scientific Review Special Emphasis Panel, March 28, 2007, 8 a.m. to March 28, 2007, 5 p.m., National Institutes of Health, 6701 Rockledge Drive, Bethesda, MD, 20892 which was published in the Federal Register on March 3, 2007, 72 FR 9547-9548.

The starting time of the meeting on March 28, 2007 has been changed to 12 p.m. until adjournment. The meeting location remains the same. The meeting is closed to the public.

Dated: March 8, 2007.
Anna Snouffer,
Acting Director, Office of Federal Advisory Committee Policy.

[FR Doc. 07-1228 Filed 3-15-07; 8:45 am]

BILLING CODE 4140-01-M